DEPARTMENT OF ENERGY

Federal Energy Regulatory Commission

Combined Notice of Filings #2

July 12, 2005.

Take notice that the Commission received the following electric rate filings:

Docket Numbers: ER00-167-002.

Applicants: Strategic Energy Management Corporation.

Description: Strategic Energy Management Corporation submits its updated market power study and a revised market-based rate tariff to include the Market Behavior Rules and the reporting requirements adopted by the Commission in Order No. 652.

Filed Date: 07/05/2005.

Accession Number: 20050708-0163.

Comment Date: 5 p.m. eastern time on Tuesday, July 26, 2005.

Docket Numbers: ER00-2019-017, ER01-819-009, ER03-608-006.

Applicants: California Independent System Operator Corporation

Description: California Independent System Operator Corporation submits revised tariff sheets in compliance with the Commission's orders issued 12/21/04, 109 FERC ¶ 61,301 (2004) and 6/2/05, 111 FERC ¶ 61,337 (2005).

Filed Date: 07/05/2005.

Accession Number: 20050708-0183.

Comment Date: 5 p.m. eastern time on Tuesday, July 26, 2005.

Docket Numbers: ER01-205-009, ER98-2640-007, ER98-4590-005, ER99-1610-012.

Applicants: Xcel Energy Services, Inc.; Northern States Power Company and Northern States Power Company (Wisconsin); Public Service Company of Colorado; Southwestern Public Service Company.

Description: Xcel Energy Services, Inc., on behalf of itself and Northern States Power Company, Northern States Power Company, Northern States Power Company (Wisconsin), Public Service Company of Colorado, and Southwestern Public Service Company, submits a compliance filing pursuant to the Commission's 6/2/05 order, 111 FERC ¶ 61,343 (2005).

Filed Date: 07/05/2005.

Accession Number: 20050712-0278.

Comment Date: 5 p.m. eastern time on Tuesday, July 26, 2005.

Docket Numbers: ER05-366-001.

Applicants: Sierra Pacific Power Company.

Description: Sierra Pacific Power Company submits withdrawal of application filed 12/21/04.

Filed Date: 07/05/2005.

Accession Number: 20050705-5029.

Comment Date: 5 p.m. eastern time on Tuesday, July 26, 2005.

Docket Numbers: ER01-542-001.

Applicants: STI Capital Company.

Description: STI Capital Company submits its triennial market power review in support of its market-based rate authority and revised market-based rate tariff to incorporate Market Behavior Rules and reporting requirements adopted by the Commission in Order 652.

Filed Date: 07/06/2005.

Accession Number: 20050708-0171.

Comment Date: 5 p.m. eastern time on Wednesday, July 27, 2005.

Docket Numbers: ER05-1151-001, ER05-226-003.

Applicants: Southwest Power Pool, Inc.

Description: Southwest Power Pool, Inc. submits an amendment to its 6/27/05 filing of a revised Interchange and Interconnection Agreement between Grand Revised Dam Authority, Public Service Co of Oklahoma and SPP in Docket Nos. ER05-1151-000 and ER05-226-002.

Filed Date: 07/06/2005.

Accession Number: 20050711-0065.

Comment Date: 5 p.m. eastern time on Wednesday, July 27, 2005.

Docket Numbers: ER05-1193-000, ER05-237-002, ER05-238-002, ER05-239-002, ER05-240-003, ER05-241-002, EL05-70-004.

Applicants: American Transmission Company, LLC; Midwest Independent Transmission System Operator, Inc.

Description: Midwest Independent Transmission System Operator, Inc. submits proposed revisions to Attachment H-1 of its OATT and Energy Markets Tariff, FERC Electric Tariff, Third Revised Volume No. 1, to reflect the addition of several Distribution-Transmission Interconnection Agreements by and between American Transmission Company, LLC and various municipal distribution systems as service agreements under the MISO Energy Markets Tariff.

Filed Date: 07/05/2005.

Accession Number: 20050708-0172.

Comment Date: 5 p.m. eastern time on Tuesday, July 26, 2005.

Docket Numbers: ER05-1194-000.

Applicants: Yaka Energy LLC.

Description: Yaka Energy, LLC submits a petition of acceptance of initial Rate Schedule FERC No. 1 under which it will engage in wholesale electric power and energy transactions as a marketer, the granting of certain waivers and certain blanket authority approvals.

Filed Date: 07/05/2005.

Accession Number: 20050711-0078.

Comment Date: 5 p.m. eastern time on Tuesday, July 26, 2005.

Docket Numbers: ER05-1195-000.

Applicants: Silverhill LTD.

Description: Silverhill Ltd. submits its petition for acceptance of initial Rate Schedule FERC No. 1 under which it will engage in wholesale electric power and energy transactions as a marketer, the granting of certain waivers and blanket authority approvals under ER05-1195.

Filed Date: 07/05/2005.

Accession Number: 20050711-0077.

Comment Date: 5 p.m. eastern time on Tuesday, July 26, 2005.

Docket Numbers: ER05-1196-000.

Applicants: PJM Interconnection, LLC.

Description: PJM Interconnection, LLC submits an executed interim interconnection service agreement with Calvert Cliffs Nuclear Power Plant, Inc. and Baltimore Gas and Electric Company and notice of cancellation of an interim interconnection service agreement.

Filed Date: 07/05/2005.

Accession Number: 20050711-0079.

Comment Date: 5 p.m. eastern time on Tuesday, July 26, 2005.

Docket Numbers: ER05-1197-000.

Applicants: Northern States Power Company.

Description: Xcel Energy Services, Inc on behalf of Northern States Power Co submits a notice of cancellation terminating the Arpin Substation Benefit Area Joint Operating, Planning & Cost Sharing Agreement, FERC electric rate Schedule 473 dated 6/1/88 between NSP and the City of Marshfield, a Wisconsin municipal corporation acting by and thru the Marshfield Electric & Water Department, Wisconsin Power and Light Company, and Wisconsin Electric Power Company.

Filed Date: 07/05/2005.

Accession Number: 20050711-0076.

Comment Date: 5 p.m. eastern time on Tuesday, July 26, 2005.

Docket Numbers: ER05-1198-000.

Applicants: AMVEST Coal Sales, Inc.

Description: AMVEST Coal Sales, Inc. submits a notice of cancellation of its market-based rate tariff.

Filed Date: 07/05/2005.

Accession Number: 20050711-0075.

Comment Date: 5 p.m. eastern time on Tuesday, July 26, 2005.

Docket Numbers: ER05-1199-000.

Applicants: Carolina Power & Light Company.

Description: Carolina Power & Light Company d/b/a Progress Energy Carolinas, Inc. submits Third Revised Rate Schedule 121, the power coordination agreement with North Carolina Eastern Municipal Power Agency.

Filed Date: 07/06/2005.

Accession Number: 20050711-0057.

Comment Date: 5 p.m. eastern time on Wednesday, July 27, 2005.

Docket Numbers: ER05-939-001.

Applicants: Vesta Trading LP.

Description: Vesta Trading LP's amended petition for acceptance of initial rate schedule waivers and blanket authority requesting acceptance of FERC Electric Tariff, Original Volume 1 amending its original filing of 5/5/05 in Docket No. ER05-939-000.

Filed Date: 07/05/2005.

Accession Number: 20050707-0129.

Comment Date: 5 p.m. eastern time on Tuesday, July 26, 2005.

Docket Numbers: ER05-953-001.

Applicants: Phelps Dodge Power Marketing, LLC.

Description: Phelps Dodge Power Marketing, LLC submits a supplement to its Application for Market-based Rate Authorization, Certain Waivers and Blanket Authorizations filed 5/10/05 in Docket No. ER05-953-000.

Filed Date: 07/06/2005.

Accession Number: 20050711-0240.

Comment Date: 5 p.m. eastern time on Wednesday, July 27, 2005.

Docket Numbers: ER05-981-001.

Applicants: Pocono Energy Services, LLC.

Description: Pocono Energy Services LLC submits an amended Petition for Acceptance of Initial Rate Schedule, Waivers and Blanket Authority filed 5/18/05 in Docket No. ER05-981-000.

Filed Date: 07/05/2005.

Accession Number: 20050708-0173.

Comment Date: 5 p.m. eastern time on Tuesday, July 26, 2005.

Docket Numbers: ER05-991-001.

Applicants: Commonwealth Chesapeake Company, LLC

Description: Commonwealth Chesapeake Company, LLC's submits an amendment to its 5/19/05 filing in Docket No. ER05-991-000 of notification of change in characteristics relied upon to grant revised market-based rate tariff.

Filed Date: 07/06/2005.

Accession Number: 20050711-0069.

Comment Date: 5 p.m. eastern time on Wednesday, July 27, 2005.

Docket Numbers: ER94-1188-036, ER98-4540-005, ER99-1623-005, ER98-1279-007.

Applicants: LG&E Energy Marketing Inc.; Louisville Gas & Electric Company; Kentucky Utilities Company; Western Kentucky Energy Corporation.

Description: LG&E Energy Marketing Inc., Louisville Gas & Electric Company, Kentucky Utilities Company and Western Kentucky Energy Corporation submit their second and final filing in compliance with FERC's 5/5/05 order, 111 FERC ¶61,153 (2005).

Filed Date: 07/05/2005.

Accession Number: 20050708-0137.

Comment Date: 5 p.m. eastern time on Tuesday, July 26, 2005.

Docket Numbers: ER96-1551-013; ER01-615-009.

Applicants: Public Service Company of New Mexico.

Description: Public Service Company of New Mexico submits its change in status report relating to its completion of the acquisition by Resources of TNP Enterprises, Inc.

Filed Date: 07/06/2005.

Accession Number: 20050711-0063.

Comment Date: 5 p.m. eastern time on Wednesday, July 27, 2005.

Docket Numbers: ER99-2506-003.

Applicants: Deseret Generation & Trans Co-operative, Inc.

Description: Deseret Generation & Transmission Co-operative, Inc submits its second updated triennial market power analysis in accordance with FERC's Order dated 5/27/99 in Docket No. ER99-2506-000.

Filed Date: 06/30/2005.

Accession Number: 20050708-0201.

Comment Date: 5 p.m. eastern time on Thursday, July 21, 2005.

Docket Numbers: ER99-2923-003.

Applicants: Phelps Dodge Energy Services, LLC.

Description: Phelps Dodge Energy Services, LLC submits a supplement to its triennial update market analysis and notice of change in status filed on 5/10/05 in Docket No. ER99-2923-002.

Filed Date: 07/06/2005.

Accession Number: 20050708-0049.

Comment Date: 5 p.m. eastern time on Wednesday, July 27, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3799 Filed 7-15-05; 8:45 am]

BILLING CODE 6717-01-P